DEPARTMENT OF THE INTERIOR

National Park Service

[NPS-WASO-NAGPRA-11463; 2200-1100-665]

Notice of Inventory Completion: University of Montana, Missoula, MT; Museum of the Rockies at Montana State University, Bozeman, MT; and University of Wyoming, Department of Anthropology, Laramie, WY

AGENCY: National Park Service, Interior.

ACTION: Notice.

SUMMARY: The University of Montana, the Museum of the Rockies at Montana State University, and the University of Wyoming, Department of Anthropology, have completed an inventory of human remains, in consultation with the appropriate Indian tribe, and have determined that there is no cultural affiliation between the remains and any present-day Indian tribe. Representatives of any Indian tribe that believes itself to be culturally affiliated with the human remains may contact the University of Montana, which is acting on its own behalf and for the Museum of the Rockies and the University of Wyoming. Disposition of the human remains to the Indian tribe stated below may occur if no additional requestors come forward.

DATES: Representatives of any Indian tribe that believes it has a cultural affiliation with the human remains should contact the University of Montana at the address below by January 17, 2013.

ADDRESSES: Dr. Sally Thompson, Department of Anthropology, University of Montana, Missoula, MT 59812, telephone (406) 243-5525.

SUPPLEMENTARY INFORMATION: Notice is here given in accordance with the Native American Graves Protection and Repatriation Act (NAGPRA), 25 U.S.C. 3003, of the completion of an inventory of human remains in the possession of the University of Montana, the Museum of the Rockies at Montana State University, and the University of Wyoming, Department of Anthropology. The human remains were removed from Yellowstone County, MT.

This notice is published as part of the National Park Service's administrative responsibilities under NAGPRA, 25 U.S.C. 3003(d)(3) and 43 CFR 10.11(d). The determinations in this notice are the sole responsibility of the museums, institutions, or Federal agencies that have control of the Native American human remains. The National Park Service is not responsible for the determinations in this notice.

Consultation

A detailed assessment of the human remains was made by the University of Montana (Campbell & McKeown 2010), the Museum of the Rockies, and the University of Wyoming professional staffs in consultation with representatives of the Crow Tribe of Montana.

History and Description of the Remains

Between 1937 and 1941, human remains representing, at minimum, 18 individuals were removed from a complex of sites known as the Pictograph Cave and its Terrace area (24YL1) and the Ghost Cave (24YL2), in Yellowstone County, MT, through an excavation project by the Works Project Administration. Nine burials were reported to have been excavated from the Pictograph Cave, while only five human bones and one tooth were reported from the Ghost Cave (Snodgrasse 1958). These remains from an excavated context are attributed to the Late Prehistoric occupation of the caves, dating between A.D. 500 and 1750 (Mulloy 1958 and Snodgrasse 1958).

The University of Wyoming, Department of Anthropology, acquired human remains from the Pictograph Cave representing, at minimum, three individuals, all sub-adults, sometime in the late 1940s. In 1991, the Museum of the Rockies acquired human teeth from the Pictograph Cave, its Terrace area, and the Ghost Cave representing, at minimum, four individuals, as part of a large donation of unrelated material. The University of Montana acquired human remains representing, at minimum, 11 individuals at an unknown date from the Pictograph Cave, its Terrace area, and the Ghost Cave. Some of the individuals held by the different institutions may be duplicative, in which case the minimum number would be lower. The human remains in the possession of the University of Montana were found in the faunal collections from these locations, and include fifteen elements from the Pictograph Cave (a left distal femur epiphysis of a sub-adult, a right 4th premolar, two right metatarsals, a right 3rd cuneiform, a left clavicle, a cervical vertebra, two proximal phalanges, a right parietal fragment, a left mandibular canine, a right talus, a right calcaneus, a left calcaneus, and a right cuboid), two elements from the Terrace area (a partial femur and a partial os coxae), and a single element from the Ghost Cave (a fragmentary rib). No known individuals were identified. No associated funerary objects are present.

Determinations Made by the University of Montana, the Museum of the Rockies, and the University of Wyoming

Officials of the University of Montana, the Museum of the Rockies, and the University of Wyoming have determined that:

• Based on the date of the site, the human remains are Native American.

• Pursuant to 25 U.S.C. 3001(2), a relationship of shared group identity cannot be reasonably traced between the Native American human remains and any present-day Indian tribe.

• According to final judgments of the Indian Claims Commission, the land from which the Native American human remains were removed is the aboriginal land of the Crow Tribe of Montana.

• Multiple lines of evidence, including treaties, Acts of Congress, and Executive Orders, indicate that the land from which the Native American human were removed is the aboriginal land of the Crow Tribe of Montana.

• Pursuant to 25 U.S.C. 3001(9), the human remains described in this notice represent the physical remains of 18 individuals of Native American ancestry.

• Pursuant to 43 CFR 10.11(c)(1), the disposition of the human remains is to the Crow Tribe of Montana.

Additional Requestors and Disposition

Representatives of any Indian tribe that believes itself to be culturally affiliated with the human remains or any other Indian tribe that believes it satisfies the criteria in 43 CFR 10.11(c)(1) should contact Dr. Sally Thompson, Department of Anthropology, University of Montana, Missoula, MT 59812, telephone (406) 243-5525 before January 17, 2013. Disposition of the human remains to the Crow Tribe of Montana may proceed after that date if no additional requestors come forward.

The University of Montana is responsible for notifying the Crow Tribe that this notice has been published.

Dated: November 2, 2012.
Sherry Hutt,
Manager, National NAGPRA Program.

[FR Doc. 2012-30463 Filed 12-17-12; 8:45 am]

BILLING CODE 4310-50-P